FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202) 523-5793 or tradeanalysis@fmc.gov.

Agreement No.: 012051.

Title: CMA CGM-APL Space Charter Agreement.

Parties: CMA CGM, S.A.; American President Lines, Ltd.; and APL Co. Pte Ltd.

Filing Party: Draughn B. Arbona, Esq., Associate Counsel, CMA CGM (America) Inc., 5701 Lake Wright Drive, Norfolk, VA 23502-1858.

Synopsis: The agreement authorizes CMA to charter space to APL in the trade between U.S. East Coast ports and ports on the Mediterranean and Red Seas and on the Indian Subcontinent.

By Order of the Federal Maritime Commission.
Dated: September 26, 2008.
Karen V. Gregory,
Secretary.

[FR Doc. E8-23145 Filed 9-30-08; 8:45 am]

BILLING CODE 6730-01-P